SMALL BUSINESS ADMINISTRATION

[Disaster Declaration #16299; CALIFORNIA Disaster Number CA-00312 Declaration of Economic Injury]

Administrative Declaration of an Economic Injury Disaster for the State of California

AGENCY: U.S. Small Business Administration.

ACTION: Notice.

SUMMARY: This is a notice of an Economic Injury Disaster Loan (EIDL) declaration for the State of California, dated 02/13/2020.

Incident: Severe Storms and Flooding.

Incident Period: 11/27/2019 through 12/01/2019.

DATES: Issued on 02/13/2020.

Economic Injury (EIDL) Loan Application Deadline Date: 11/13/2020.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the Administrator's EIDL declaration, applications for economic injury disaster loans may be filed at the address listed above or other locally announced locations.

The following areas have been determined to be adversely affected by the disaster:

Primary Counties: San Bernardino.

Contiguous Counties:

California: Inyo, Kern, Los Angeles, Orange, Riverside.

Arizona: La Paz, Mohave.

Nevada: Clark.

The Interest Rates are:

| Percent
Businesses and Small Agricultural Cooperatives without Credit Available Elsewhere | 3.875
Non-Profit Organizations without Credit Available Elsewhere | 2.750

The number assigned to this disaster for economic injury is 162990.

The States which received an EIDL Declaration # are California, Arizona, Nevada.

(Catalog of Federal Domestic Assistance Number 59008)

Dated: February 13, 2020.
Jovita Carranza,
Administrator.

[FR Doc. 2020-03631 Filed 2-21-20; 8:45 am]

BILLING CODE 8026-03-P